DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. U.S. Patent Application No. 09/668,407: Multiple-Buffer Queuing of Data Packets with High Throughput Rate, Navy Case No. 84,834.//U.S. Patent Application No. 09/715,772: Multi-Thread Peripheral Processing Using Dedicated Peripheral Bus, Navy Case No. 84,781.//U.S. Patent Application No. 09/715,778: Prioritizing Resource Utilization in Multi-Thread Computing System, Navy Case No. 84,779.//U.S. Patent Application No. 09/833,578: System and Method for Data Forwarding in a Programmable Multiple Network, Navy Case No. 84,886.//U.S. Patent Application No. 09/833,580: System and Method for Instruction-Level Parallelism in a Programmable Network Processor Environment, Navy Case No. 84,888.//U.S. Patent Application No. 09/833,581: System and Method for Processing Overlapping Tasks in a Programmable Network Processor Environment, Navy Case No. 84,885.//U.S. Patent Application No. 09/859,150: Adaptive Control of Multiplexed Input Buffer Channels, Navy Case No. 84,831.//U.S. Patent Application No. 09/933,786: Shift Processing Unit, Navy Case No. 84,832 and any continuations, divisionals or re-issues thereof.

ADDRESSES: Requests for copies of the inventions cited should be directed to the Naval Research Laboratory, Code 1004, 4555 Overlook Avenue, SW., Washington, DC 20375-5320, and must include the Navy Case number.

FOR FURTHER INFORMATION CONTACT: Jane F. Kuhl, Head, Technology Transfer Office, NRL Code 1004, 4555 Overlook Avenue, SW., Washington, DC 20375-5320, telephone 202-767-3083. Due to temporary U.S. Postal Service delays, please fax 202-404-7920, e-mail: kuhl@utopia.nrl.navy.mil or use courier delivery to expedite response.

(Authority: 35 U.S.C. 207, 37 CFR Part 404.)

Dated: May 18, 2005.
I.C. Le Moyne, Jr.,
Lieutenant, Judge Advocate General's Corps, U.S. Navy, Alternate Federal Register Liaison Officer.

[FR Doc. 05-10393 Filed 5-24-05; 8:45 am]

BILLING CODE 3810-FF-P